POSTAL SERVICE

Change in Classes of General Applicability for Competitive Products

AGENCY: Postal Service™.

ACTION: Notice of a change in classes of general applicability for competitive products.

SUMMARY: This notice sets forth changes in classes of general applicability for competitive products.

DATES: Applicable date: July 14, 2024.

FOR FURTHER INFORMATION CONTACT: Christopher C. Meyerson, 202-268-7820.

SUPPLEMENTARY INFORMATION: On February 8, 2024, pursuant to their authority under 39 U.S.C. 3632 and 3682, the Governors of the Postal Service established classification changes for minimum size limitations for international letter-post rolls in the Mail Classification Schedule. The Governors' Decision and the record of proceedings in connection with such decision are reprinted below in accordance with section 3632(b)(2).

Sarah Sullivan,
Attorney, Ethics and Legal Compliance.

Decision of the Governors of the United States Postal Service on Mail Classification Schedule Changes to Size Limitations for International Letter-Post Rolls (Governors' Decision No. 24-1)

February 8, 2024

Statement of Explanation and Justification

Pursuant to our authority under section 404(b) and Chapter 36 of title 39, United States Code, the Governors establish classification changes to the minimum size limitations for international letter-post rolls.

The Universal Postal Union (UPU) Convention Regulations will be establishing new dimensions for international letter-post rolls (a certain format for outbound and inbound letter-post items). To conform with these dimension requirements, the Postal Service must revise the minimum size limitations for international letter-post rolls in the Mail Classification Schedule, for products with rates of general applicability. We have evaluated the classification changes in this context in accordance with 39 U.S.C. 3632 and 3682. We approve the changes, finding that they are appropriate, and are consistent with the regulatory criteria.

Order

We direct management to file with the Postal Regulatory Commission appropriate notice of these classification changes. The changes in classification set forth herein shall become effective on July 14, 2024.

By The Governors:

/s/

Roman Martinez IV,

Chairman, Board of Governors.

United States Postal Service Office of the Board of Governors

Certification of Governors' Vote on Governors' Decision No. 24-1

Consistent with 39 U.S.C. 3632(a), I hereby certify that, on February 8, 2024, the Governors voted on adopting Governors' Decision No. 24-1, and that a majority of the Governors then holding office voted in favor of that Decision.

February 8. 2024.

/s/

Michael J. Elston,

Secretary of the Board of Governors.

[FR Doc. 2024-08169 Filed 4-16-24; 8:45 am]

BILLING CODE 7710-12-P